DEPARTMENT OF TRANSPORTATION

Federal Aviation Administration

14 CFR Part 93

[Docket No. FAA-2022-1029; Amdt. No. 93-103A]

RIN 2120-AL77

Extension of the Requirement for Helicopters To Use the New York North Shore Helicopter Route; Correction

AGENCY: Federal Aviation Administration (FAA), Department of Transportation (DOT).

ACTION: Interim final rule; correction.

SUMMARY: This document corrects an interim final rule with request for comment that intended to extend the expiration date of the rule requiring pilots operating civil helicopters under Visual Flight Rules to use the New York North Shore Helicopter Route when operating along the northern shoreline of Long Island, New York. This correction effectuates that extension.

DATES: As of August 4, 2022, this rule corrects the DATES portion of the interim final rule published on July 29, 2022 (87 FR 45638).

ADDRESSES: Send comments identified by docket number FAA-2022-1029 using any of the following methods:

• Federal eRulemaking Portal: Go to https://www.regulations.gov/ and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12 140 of the West Building Ground Floor at 1200 New Jersey Avenue SE, Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to https://www.regulations.gov, as described in the system of records notice (DOT/ALL-14 FDMS), which can be reviewed at https://www.dot.gov/privacy.

Docket: Background documents or comments received may be read at https://www.regulations.gov/ at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brian Konie, Airspace Rules and Regulations Team AJV-P21, Mission Support Services, Air Traffic Organization, Federal Aviation Administration, 800 Independence Avenue SW, Washington, DC 20591; telephone (202) 267-0745; email 9-NATL-NY-NorthShore@faa.gov.

SUPPLEMENTARY INFORMATION: In FR Doc. 2022-16372 (87 FR 45638), published Friday, July 29, 2022, FAA makes the following correction:

1. On page 45638, in the third column, correct DATES to read as follows:

“DATES: This rule is effective July 29, 2022, through July 29, 2026. As of July 29, 2022, extend the expiration of the effective date of FR Doc. 2020-17334 published on August 7, 2020 (85 FR 47895) from August 5, 2022, until July 29, 2026.

Send comments on or before August 29, 2022.”

Issued under authority provided by 49 U.S.C. 106(f), 44701(a), and 44703 in Washington, DC, on August 3, 2022.
Timothy R. Adams,
Deputy Executive Director, Office of Rulemaking.

[FR Doc. 2022-16963 Filed 8-4-22; 8:45 am]

BILLING CODE 4910-13-P